DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. to achieve expeditious commercialization of results of federally-funded research and development.

FOR FURTHER INFORMATION CONTACT: Licensing information may be obtained by emailing the indicated licensing contact at the National Heart, Lung, and Blood, Office of Technology Transfer and Development Office of Technology Transfer, 31 Center Drive, Room 4A29, MSC2479, Bethesda, MD 20892-2479; telephone: 301-402-5579. A signed Confidential Disclosure Agreement may be required to receive any unpublished information.

SUPPLEMENTARY INFORMATION: Technology description follows.

Sickle Cell Anemia Treatment Through RIOK3 Inhibition

Available for licensing and commercial development are methods for the treatment of beta-globinapathies such as sickle cell disease and beta-thalassemia by inhibiting the expression and/or activity of RIOK3 in erythroid cells such as primary erythroid progenitor cell or a CD34+ erythroid cells. RIOK3 inhibitors contemplated within the scope of the invention can be antibodies, siRNAs, microRNAs, antisense oligonucleotides or small molecules like Midostaurin, Axitinib, Bosutinib, or Ruxolitinib.

Potential Commercial Applications:

• Sickle cell disease

• beta thalassemia

Development Stage:

• Early stage

Inventors: Bjorg Gudmundsdottir, Laxminath Tumburu, John Tisdale (all of NHLBI)

Intellectual Property: HHS Reference No. E-200-2018; U.S Provisional Patent Application 62/756,497 filed November 6, 2018.

Licensing Contact: Michael Shmilovich, Esq, CLP; 301-435-5019; shmilovm@mail.nih.gov.

Dated: November 7, 2018.
Michael A. Shmilovich,
Senior Licensing and Patenting Manager, National Heart, Lung, and Blood Institute, Office of Technology Transfer and Development.

[FR Doc. 2018-25194 Filed 11-16-18; 8:45 am]

BILLING CODE 4140-01-P